GENERAL SERVICES ADMINISTRATION

[Docket 2012-0001; Sequence 13; OMB Control NO. 3090-0283]

Office of the Chief Information Officer; Information Collection; Temporary Contractor Information Worksheet

AGENCY: Identity, Credential, and Access Management (ICAM) Division, Office of Enterprise Solutions (IA), Office of the Chief Information Officer (OCIO), General Services Administration (GSA).

ACTION: Notice of request for comments regarding an extension to an existing OMB clearance.

SUMMARY: Under the provisions of the Paperwork Reduction Act, the General Services Administration will be submitting to the Office of Management and Budget (OMB) a request to review and approve a previously approved information collection requirement regarding temporary contractor information worksheet.

GSA requires OMB approval for this collection to make determinations on granting unescorted physical access to GSA-controlled facilities. The approval is critical for GSA to continue to make physical access determinations for temporary contractors as a result of the American Recovery and Reinvestment Act of 2009 (Pub. L. 111-5).

Public comments are particularly invited on: Whether this collection of information is necessary and whether it will have practical utility; whether our estimate of the public burden of this collection of information is accurate, and based on valid assumptions and methodology; ways to enhance the quality, utility, and clarity of the information to be collected.

DATES: Submit comments on or before: September 10, 2012.

ADDRESSES: Submit comments identified by Information Collection 3090-0283, Temporary Contractor Information Sheet, by any of the following methods:

• Regulations.gov: http://www.regulations.gov. Submit comments via the Federal eRulemaking portal by searching the OMB control number. Select the link “Submit a Comment” that corresponds with “Information Collection 3090-0283, Temporary Contractor Information Sheet”. Follow the instructions provided at the “Submit a Comment” screen. Please include your name, company name (if any), and “Information Collection 3090-0283, Temporary Contractor Information Sheet” on your attached document.

• Fax: 202-501-4067.

• Mail: General Services Administration, Regulatory Secretariat (MVCB), 1275 First Street, NE., Washington, DC 20417. Attn: Hada Flowers/IC 3090-0283, Temporary Contractor Information Sheet.

Instructions: Please submit comments only and cite Information Collection 3090-0283, Temporary Contractor Information Sheet, in all correspondence related to this collection. All comments received will be posted without change to http://www.regulations.gov, including any personal and/or business confidential information provided.

FOR FURTHER INFORMATION CONTACT: Mr. Phil Ahn, Director, OCIO Identity Credential and Access Management Division, GSA, telephone (202) 501-2447 or via email at phil.ahn@gsa.gov.

SUPPLEMENTARY INFORMATION:

A. Purpose

The U.S. Government conducts criminal checks to establish that applicants or incumbents working for the Government under contract may have unescorted access to GSA-controlled facilities. GSA uses the Temporary Contractor Information Worksheet and the FBI Form FD-258 Fingerprint Card to conduct a FBI National Criminal Information Check (NCIC) for each temporary contractor (working on contract for six months or less and require physical access only) on GSA contracts for American Recovery and Reinvestment Act of 2009 (Pub. L. 111-5) efforts to determine whether to grant unescorted access to GSA-controlled facilities. GSA will continue to make physical access determinations for temporary contractors due to the American Recovery and Reinvestment Act of 2009.

The Office of Management and Budget (OMB) Guidance M-05-24 for Homeland Security Presidential Directive (HSPD) 12 authorizes Federal departments and agencies to ensure that temporary contractors have limited/controlled access to facilities and information systems. GSA Directive CIO P 2181.1 Homeland Security Presidential Directive-12 Personal Identity Verification and Credentialing (available at http://www.gsa.gov/hspd12) states that GSA temporary contractors must undergo a minimum of a FBI National Criminal Information Check (NCIC) to receive unescorted physical access. Temporary contractors' Social Security Number is needed to keep records accurate, because other people may have the same name and birth date. Executive Order 9397 Numbering System for Federal Accounts Relating to Individual Persons also allows Federal agencies to use this number to help identify individuals in agency records. GSA describes how information will be maintained in the Privacy Act system of record notice published in the Federal Register at 73 FR 35690 on June 24, 2008.

B. Annual Reporting Burden

Respondents: 1,250.

Responses per Respondent: 1.

Hours per Response: .25.

Total Burden Hours: 313.

Obtaining Copies of Proposals: Requesters may obtain a copy of the information collection documents from the General Services Administration, Regulatory Secretariat Division (MVCB), 1275 First Street, NE., Washington, DC 20417, telephone (202) 501-4755. Please cite OMB Control No. 3090-0283, Temporary Contractor Information Worksheet in all correspondence. The form can be downloaded from the GSA Forms Library at http://www.gsa.gov/forms. Type GSA 850 in the form search field.

Dated: June 28, 2012.
Casey Coleman,
Chief Information Officer.

[FR Doc. 2012-16899 Filed 7-10-12; 8:45 am]

BILLING CODE 6820-34-P